DEPARTMENT OF HOMELAND SECURITY

Directorate of Science and Technology; Notice of Homeland Security Science and Technology Advisory Committee (HSSTAC) Vacancy and Call for Applications

AGENCY: Office of the Undersecretary for Science and Technology, Department of Homeland Security.

ACTION: Notice.

SUMMARY: Pursuant to section 311 of the Homeland Security Act of 2002, Pub. L. 107-296, the Secretary of the Department of Homeland Security is seeking nominations to fill a vacant seat on the Homeland Security Science and Technology Advisory Committee (HSSTAC). Section 311(b)(1) of the statute requires that the committee include among its membership “Representatives of citizens groups, including economically disadvantaged communities.” Therefore, we are requesting qualified individuals that meet this criterion and are interested in serving on this committee to apply for membership. Nominees should send a letter of interest and brief biography to hsstac@dhs.gov or fax to the attention of Dr. Ron Taylor at 202-772-9916. Applicants selected for appointment will be required to pass an appropriate security background check prior to appointment to the committee.

DATES: Your letter of interest and brief biography should reach the Department of Homeland Security on or before January 15, 2004.

FOR FURTHER INFORMATION CONTACT: Dr. Ronald Taylor, Director, Office of Studies and Analysis, Department of Homeland Security Science and Technology Directorate, telephone 202-205-5041, fax 202-772-9916.

SUPPLEMENTARY INFORMATION:

Purpose

The HSSTAC shall make recommendations with respect to the activities of the Under Secretary for Science and Technology, including identifying research areas of potential importance to the security of the Nation. The HSSTAC is to be a source of independent, scientific and technical planning advice for the Under Secretary for Science and Technology.

Membership

The HSSTAC consists of 20 members appointed by the Under Secretary for Science and Technology. The HSSTAC also includes emergency first-responders or representatives of organizations or associations of emergency first-responders. (We are not requesting applicants for these positions in this notice.) The HSSTAC also includes representatives of citizens groups, including economically-disadvantaged communities. The HSSTAC members are (1) eminent in fields such as emergency response, research, engineering, new product development, business, and management consulting; (2) selected solely on the basis of established records of distinguished service; (3) not employees of the Federal Government; and, (4) selected as to provide representation of a cross-section of the research, development, demonstration, and deployment activities supported by the Under Secretary for Science and Technology.

Members will serve terms of office of 3 years. However, to permit orderly turnover of the committee's membership, the original members of the HSSTAC will be appointed to three groups of approximately equal numbers each, and their terms of office will be staggered. One group will have a term of 1 year, 1 a term of 2 years, and the other a term of 3 years.

While attending meetings or otherwise engaged in Committee business, Committee members are authorized travel and subsistence or per diem allowances (as appropriate) in accordance with Federal government regulations.

Meetings

The HSSTAC will meet at least quarterly at the call of the Chair or whenever one-third of the members so request in writing.

Duration

The HSSTAC is expected to be needed on a continuing basis. However, the HSSTAC will terminate on November 25, 2005, pursuant to section 311(j) of the Homeland Security Act of 2002 unless extended.

Dated: December 16, 2003.
Charles E. McQueary,
Under Secretary for Science and Technology, Department of Homeland Security.

[FR Doc. 03-31448 Filed 12-19-03; 8:45 am]

BILLING CODE 4410-10-P